DEPARTMENT OF COMMERCE

National Oceanic and Atmospheric Administration

RIN 0648-XA317

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Hawaii Advisory Panel (AP), Hawaii Plan Team (PT), Pelagic PT and Regional Ecosystem Advisory Committee (REAC).

DATES: The Hawaii PT meeting will be held on April 12 to 13, 2011, Hawaii AP meeting on April 13 to 14, 2011, and Hawaii REAC meeting on April 20, 2011. The Pelagic PT meeting will be held on April 26 to 28, 2011. For specific times and agendas, see SUPPLEMENTARY INFORMATION.

ADDRESSES: The Hawaii AP, PT, REAC and Pelagic PT meetings will be held at the Council Office Conference Room, 1164 Bishop Street, Suite 1400, Honolulu, Hawaii.

FOR FURTHER INFORMATION CONTACT: Kitty M. Simonds, Executive Director; telephone: (808) 522-8220.

SUPPLEMENTARY INFORMATION: Public comment periods will be provided throughout the agendas. The order in which agenda items are addressed may change. The meetings will run as late as necessary to complete scheduled business.

Schedule and Agenda for Hawaii PT Meeting

9 a.m.-5 p.m. Tuesday and Wednesday, April 12-13, 2011

The Hawaii PT will meet to hear reports on, discuss and consider developing recommendations on the following upcoming Council meeting actions:

1. Status of Fishery Monitoring Programs and Research Projects

A. Coral Reef Fisheries

B. Crustacean Fisheries

C. Precious Coral Fisheries

D. Pacific Islands Regional Office (PIRO) Administrative Activities

E. Bottomfish Fisheries

i. Main Hawaiian Islands (MHI) Total Allowable Catch (TAC) Monitoring

ii. Market/Economic Report

iii. PIRO Report on TAC and Annual Catch Limits (ACL) process update

iv. Recreational permit and reporting

2. Hawaii Archipelago Fishery Ecosystem Plan (FEP) Draft Annual Report Structure

3. Improving Fishery Data Collection and Research

A. Update on Recommendations from 2009 Fishery Data Workshop

B. Magnuson-Stevens Act (MSA) Five-Year Priorities

C. Review of Cooperative Research

D. Review of PT Risk Ranking Results for Stock Assessment and ACLs

4. Other Business

5. National Fisheries Mandates

A. Coastal and Marine Spatial Planning (CMSP)

i. Overview of CMSP

ii. Community CMSP Workshop Plans

B. Update on ACLs

C. Report on ACL and Catch Share Workshops

6. Upcoming Fishery Management Actions

A. Options for Non-Commercial Fishery Data Reporting

B. Hawaiian Archipelago Bottomfish Essential Fish Habitat (EFH) and Habitat Area of Particular Concern (HAPC) Review

C. Status of State Bottomfish Regulatory Changes

D. Options for Limited Entry of Offshore Aquaculture

7. Coral Reef Funded Projects

A. Kona Crab Stock Assessment

B. Black Coral Mapping

C. Deepwater Chorusing Phenomenon

D. Report on Tournament Sampling

E. Upcoming Coral Reef Projects

Schedule and Agenda for Hawaii AP Meeting

9 a.m.-5 p.m. Wednesday to Thursday, April 13-14, 2011

The Hawaii AP will meet to hear reports on, discuss and consider developing recommendations on the following upcoming Council meeting actions:

1. National Fisheries Mandates

A. Coastal and Marine Spatial Planning (CMSP)

i. Overview of CMSP

ii. Community CMSP Workshop Plans

B. Update on Annual Catch Limits (ACLs)

C. Report on ACL and Catch Share Workshops

2. Upcoming Fishery Management Actions

A. Options for Non-Commercial Fishery Data Reporting

B. Hawaiian Archipelago Bottomfish EFH and HAPC Review

C. Status of State Bottomfish Regulatory Changes

D. Options for Limited Entry of Offshore Aquaculture

3. Coral Reef Funded Projects

A. Kona Crab Stock Assessment

B. Black Coral Mapping

C. Deepwater Chorusing Phenomenon

D. Report on Tournament Sampling

E. Upcoming Coral Reef Projects

4. Council and Advisory Panel Responsibilities

A. Council and MSA Overview

B. Advisory Panel Responsibilities

5. Review of Previous Day Presentations

A. Review of Action Items

6. Hawaii Fishery Issues

A. Fishery Issues Presented by Members

B. MHI Bottomfish Update

C. Ocean Regulatory Regime Review Initiative

D. Fishery Development

E. Other Business

7. Ecosystems and Communities

A. Report on Hoolei Ia Puwalu

B. Marine Recreational Information Program/National Salt Water Angler Registry Update

C. Community Monitoring Tacklebox

Schedule and Agenda for Hawaii REAC Meeting

9 a.m.-4 p.m. Wednesday, April 20, 2011

The Hawaii REAC will meet to hear reports on, discuss and consider developing recommendations on the following upcoming Council meeting actions:

1. Marine and Coastal Ecosystem Policies, Program and Community Initiatives

A. Coastal and Marine Spatial Planning

i. Pacific Islands Regional Office

ii. Pacific Services Center Activities

iii. Pacific Ocean Regional Partnership

B. Ocean Regulatory Regime Review Initiative

C. Aha Moku Initiative

2. Ocean Management Activities

A. Hawaiian Islands Humpback Whale Sanctuary Management Plan Review

B. Hawaiian Archipelago Bottomfish Essential Fish Habitat

C. Protected Species

i. Endangered Species Act (ESA) Incidental Take Permit for Sea Turtles and Monk Seals

ii. Monk Seal—Programmatic Environmental Impact Statement (EIS)

iii. Insular False Killer Whale listing Under ESA

iv. Spinner Dolphin Human Interaction EIS and Rule-making

3. Overview of 2011 Ocean Legislation

4. Impacts of the March 2011 Tsunami

Schedule and Agenda for the Pelagic PT Meeting

8:30 a.m.-5 p.m. Tuesday to Thursday, April 26-28, 2011

The Pelagic Plan Team members from Hawaii, American Samoa, Guam, and Commonwealth of Northern Mariana Islands (CNMI) will meet to hear reports on, discuss and consider developing recommendations on the following upcoming Council meeting actions:

1. Annual Report review

a. Review 2010 Annual Report modules and recommendations

i. CNMI

ii. American Samoa

iii. Guam

iv. Hawaii

v. International

vi. Recreational

b. 2010 Annual report region wide recommendations

2. Summary of current Fishery Ecosystem Plan (FEP) amendment actions

3. American Samoa longline fishery large circle hooks study

4. Potential American Samoa swordfish fishery

5. Marine Conservation Biology Institute (MCBI)/NMFS seabirds and pelagic fish workshop

6. Pacific Council Highly Migratory Species Plan Amendment 2 and lead Council designation

7. Migratory Bird Treaty Act—permit implications for pelagic fisheries

8. Hawaii Troll/charter fishery Category I to Cat II listing

9. Loggerhead status—Implications for consultations

10. Other business

Special Accommodations

These meetings are physically accessible to people with disabilities. Requests for sign language interpretation or other auxiliary aids should be directed to Kitty M. Simonds, (808) 522-8220 (voice) or (808) 522-8226 (fax), at least five days prior to the meeting date.

Authority: 1801 et seq.

Dated: March 21, 2011.
Tracey L. Thompson,
Acting Director, Office of Sustainable Fisheries, National Marine Fisheries Service.

[FR Doc. 2011-6956 Filed 3-23-11; 8:45 am]

BILLING CODE 3510-22-P